EXPORT-IMPORT BANK

[Public Notice 94]

Agency Information Collection Activities: Submission for OMB Review; Comment Request

AGENCY: Export Import Bank of the U.S.

ACTION: Notice and request for comments.

SUMMARY: The Export-Import Bank, as a part of its continuing effort to reduce paperwork and respondent burden, invites the general public and other Federal Agencies to comment on the proposed information collection, as required by the Paperwork Reduction Act of 1995. Our customers will be able to submit this form electronically. The proposed form may be viewed on our Web site at http://www.exim.gov/pub/ins/pdf/EIB%2092-30%20August 172006_proposed.pdf.

DATES: Written comments should be received on or before December 11, 2006. to be assured of consideration.

ADDRESSES: Direct all comments and requests for additional information to David Rostker, Office of Management and Budget, Office of Information and Regulatory Affairs, NEOB, Room 10202, Washington, DC 20503, (202) 395-3897.

SUPPLEMENTARY INFORMATION: Title and Form Numbers: EIB 92-30 Report of Premiums Payable for Financial Institutions Only.

OMB Number: None.

Type of Review: Regular.

Need and Use: The information requested enables the applicant to provide Ex-Im Bank with the information necessary to record customer utilization and manage prospective insurance liability relative to risk premiums received.

Affected Public: The form affects entities involved in the export of U.S. goods and services.

Estimated Annual Respondents: 150.

Estimated Time Per Respondent: 15 minutes.

Estimated Annual Burden: 450 hours.

Frequency of Reporting or Use: Monthly.

Dated: November 3, 2006.
Solomon Bush,
Agency Clearance Officer.

[FR Doc. 06-9129 Filed 11-8-06; 8:45 am]

BILLING CODE 6690-01-M